DEPARTMENT OF ENERGY

Federal Energy Regulatory Commission

[Docket No. CP93-618-014]

PG&E Gas Transmission, Northwest Corporation; Notice of Annual Report

January 30, 2003.

Take notice that on January 28, 2003, PG&E Gas Transmission, Northwest Corporation (GTN) tendered for filing its “Annual Report on Deferred Revenue Recovery Mechanism and Revenue Reconciliation for the Year Ending October 31, 2002” for its Medford, Oregon Lateral.

GTN asserts that the purpose of this filing is to comply with the Commission's Order of January 12, 1995 in Docket Nos. CP93-618, et al. That Order requires GTN to file an annual report concerning its deferred revenue recovery mechanism and detailing the cost of service for GTN's Medford Lateral and the status of its deferred revenue recovery mechanism.

GTN further states that a copy of this filing has been served on GTN's jurisdictional customers and interested state regulatory agencies, and on the parties listed on the Commission's service list for this proceeding.

Any person desiring to protest said filing should file a protest with the Federal Energy Regulatory Commission, 888 First Street, NE., Washington, DC 20426, in accordance with Section 385.211 of the Commission's Rules and Regulations. All such protests must be filed on or before the comment date. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: February 6, 2003.

Magalie R. Salas,
Secretary.

[FR Doc. 03-2875 Filed 2-5-03; 8:45 am]

BILLING CODE 6717-01-P